DEPARTMENT OF TRANSPORTATION

Federal Aviation Administration

14 CFR Part 71

[Docket No. FAA-2022-1673; Airspace Docket No. 22-AGL-38]

RIN 2120-AA66

Proposed Establishment of Class E Airspace; Paoli, IN

AGENCY: Federal Aviation Administration (FAA), DOT.

ACTION: Proposed rule; withdrawal.

SUMMARY: This action withdraws the notice of proposed rulemaking (NPRM) published in the Federal Register on December 22, 2022, proposing to establish Class E airspace at Paoli, IN. The FAA has determined that withdrawal of the NPRM is warranted as the airport has withdrawn its request to develop public instrument flight procedures necessitating the establishment of Class E airspace.

DATES: Effective as of 0901 UTC, November 9, 2023, the proposed rule published December 22, 2022 (87 FR 78616), is withdrawn.

FOR FURTHER INFORMATION CONTACT: Jeffrey Claypool, Federal Aviation Administration, Operations Support Group, Central Service Center, 10101 Hillwood Parkway, Fort Worth, TX 76177; telephone (817) 222-5711.

SUPPLEMENTARY INFORMATION:

Reason for Withdrawal

The FAA published a NPRM on December 22, 2022 (87 FR 78616), Docket No. FAA-2022-1673, to amend 14 CFR 71 by establishing Class E airspace extending upward from 700 feet above the surface at Paoli Municipal Airport, Paoli, IN, to support instrument flight rule operations at this airport. Subsequent to publication, the FAA was notified that the airport has withdrawn its request to develop public instrument flight procedures at this airport which necessitated the Class E airspace.

Conclusion

The FAA determined that the NPRM published on December 22, 2022 (87 FR 78616), is unnecessary. Therefore, the FAA withdraws that NPRM.

Issued in Fort Worth, Texas, on November 6, 2023.
Martin A. Skinner,
Acting Manager, Operations Support Group, ATO Central Service Center.

[FR Doc. 2023-24843 Filed 11-8-23; 8:45 am]

BILLING CODE 4910-13-P